DEPARTMENT OF JUSTICE

Antitrust Division

Notice Pursuant to the National Cooperative Research and Production Act of 1993—Defense Industrial Based Consortium

Notice is hereby given that, on October 14, 2025, pursuant to section 6(a) of the National Cooperative Research and Production Act of 1993, 15 U.S.C. 4301 et seq. (“the Act”), Defense Industrial Based Consortium (“DIBC”) has filed written notifications simultaneously with the Attorney General and the Federal Trade Commission disclosing changes in its membership. The notifications were filed for the purpose of extending the Act's provisions limiting the recovery of antitrust plaintiffs to actual damages under specified circumstances.

Specifically, Alitheon Inc., Bellevue, WA; Alpha Six Analytics LLC, Bristow, VA; Alpha-En Corporation, Hopewell Junction, NY; Alvarez & Marsal Federal, LLC, Washington, DC; American Energy Technologies CO, Glenview, IL; American Triad Limited Liability CO, Miami, FL; API Innovation Center, Saint Louis, MO; Applied Information Sciences Inc., Reston, VA; Arcam Corporation, Weston, MA; Ascend Elements, Inc., Westborough, MA; Atome Incorporated, Ipswich, MA; Auterion Government Solutions Inc., Arlington, VA; Axle Box Innovations LLC, College Station, TX; Axyde Analytics, LLC, Alexandria, VA; Blueshift Carbon, Inc., Somerville, MA; Brainstorm Technologies LLC, Slidell, LA; BrightSpark Graphite Pty Ltd, Queenwood, COMMONWEALTH OF AUSTRALIA; Caci, Inc.—Federal, Chantilly, VA; Chesapeake Technology International, Corp., Prince Frederick, MD; Chz Technologies LLC, Canfield, OH; CMBlu Energy, Inc., Petaluma, CA; Computer Conversions Corporation, East Northport, NY; Conamix Inc., Ithaca, NY; Controlled Thermal Resources (US) Inc., Imperial, CA; Copperwood Resources Inc., Wakefield, MI; Critical Materials Recycling, Inc., Boone, IA; Cypress Holdings Nevada, Limited, Twin Falls, ID; D & T Contractors, Inc., Lucedale, MS; Desert Energy Corp., Surprise, AZ; Drs Network & Imaging Systems LLC, Melbourne, FL; Elementium Materials, Inc., Somerville, MA; Ensign-Bickford Aerospace & Defense Company, Simsbury, CT; Fluorionics, Inc., Austin, TX; Ftl Labs Corp, Amherst, MA; Geoquantum Resources, Inc., Calgary, CANADA; Gietter, Marc, Elkton, MD; Golden Metal Resources LLC, Las Vegas, NV; Govsignals, Inc., New York, NY; Graymatter Robotics, Inc., Carson, CA; Greentech Minerals Holdings, Inc., Washington, DC; Haddy, Inc., Saint Petersburg, FL; Harmonic Alpha LLC, Frederick, MD; Henrietta Mine, LLC, Chandler, AZ; Hylo Industries, Inc., Simpsonville, SC; Hypersciences, Inc., Spokane, WA; Impossible Metals, Inc., San Jose, CA; Integrated Solutions for Systems, Inc., Huntsville, AL; Janicki Industries, Inc., Sedro Woolley, WA; Jessica Dapelo Enterprises, Inc., Patchogue, NY; Kadure Global Impex LLC, Brooklyn, NY; Kato Engineering, Inc., North Mankato, MN; Kerria USA LLC, Tustin, CA; Liberty Star Uranium & Metals Corp., Madisonville, KY; M2i Global, Inc., Incline Village, NV; Machina Labs, Inc., Chatsworth, CA; Magnetic Instrumentation Company, LLC, Indianapolis, IN; Magnetics Corporation, Tallahassee, FL; Maverick Labs, Inc., San Antonio, TX; Merge Plot LLC, Huntingdon Valley, PA; Metals Innovation Initiative, Inc., Bowling Green, KY; Modalai, Inc., San Diego, CA; Negative Emissions Materials, Inc., Brooklyn, NY; Niron Magnetics, Inc., Minneapolis, MN; Noah Technologies Corporation of Texas, San Antonio, TX; Orefine LLC, Bee Caves, TX; Pacific Engineering, Inc., Roca, NE; Parcell Company, Columbus, OH; Pareek Group LLC, Potomac, MD; Partworks, LLC, Atlanta, GA; Performance Results Plus Inc., Galena, OH; Pillsbury Winthrop Shaw Pittman Llp, New York, NY; Princeton Nuenergy, Inc., Bordentown, NJ; Public Access LLC, Salem, OH; Quantumscape Battery, Inc., San Jose, CA; R. Stresau Laboratory, Inc., Spooner, WI; Rad Wifi LLC, Ogden, UT; Radiation Detection Technologies, Inc., Manhattan, KS; Readyone Industries, Inc., El Paso, TX; Rising Tide Associates LLC, Marblehead, MA; RMGS, Inc., Virginia Beach, VA; Romeo Alpha Holdings, CO, The Villages, FL; Senesco Marine, LLC, North Kingstown, RI; Sierra Nevada Company, LLC, Englewood, CO; Srr International, Inc., Riviera Beach, FL; Summit Nanotech USA Corporation, Lafayette, CO; Swift Solar, Inc., San Carlos, CA; Systems Planning and Analysis, Inc., Alexandria, VA; Taber Extrusions, LLC, Russellville, AR; Targetx, LLC, Roanoke, TX; Tecma, Inc., Sacramento, CA; Tectus Corporation, Cupertino, CA; Temperature Testing Technologies LLC, Phoenixville, PA; Terragia Biofuel, Inc., Hanover, NH; Tetra Tech, Inc., Pasadena, CA; The Oakley Office, LLC, Lineville, AL; Theradaptive, Inc., Frederick, MD; Thorin Resources, LLC, Ouray, CO; Titomic USA, Inc., Madison, AL; Tst Fab & Machine LLC, Norfolk, VA; Twelve Benefit Corporation, Berkeley, CA; University of North Carolina at Charlotte, Charlotte, NC; Ussemi, Inc., Williamsburg, VA; Valinor Enterprises, Inc., Alexandria, VA; Vital Gritworks Corp, Chelmsford, MA; Volt Energy Materials LLC, Bordentown, NJ; Vulcanforms, Inc., Devens, MA; Western Alaska Copper & Gold Company, Talkeetna, AK; Worcester Polytechnic Institute, Worcester, MA; Xerion Advanced Battery Corp., Kettering, OH; Xometry, Inc., North Bethesda, MD; and Zulu Pods, Inc., Amherst, MA, have been added as parties to this venture.

Also, Blacksky Geospatial Solutions, LLC, Herndon, VA, has withdrawn as a party to this venture.

No other changes have been made in either the membership or planned activity of the group research project. Membership in this group research project remains open, and DIBC intends to file additional written notifications disclosing all changes in membership.

On February 21, 2024, DIBC filed its original notification pursuant to section 6(a) of the Act. The Department of Justice published a notice in the Federal Register pursuant to section 6(b) of the Act on June 24, 2024 (89 FR 52508).

The last notification was filed with the Department on July 2, 2025. A notice was published in the Federal Register pursuant to section 6(b) of the Act on August 14, 2025 (90 FR 39224).

Suzanne Morris,
Deputy Director Civil Enforcement Operations, Antitrust Division.

[FR Doc. 2026-03546 Filed 2-20-26; 8:45 am]

BILLING CODE P